DEPARTMENT OF AGRICULTURE

Forest Service

Bitterroot National Forest, Stevensville Ranger District, Montana; Gold Butterfly Project

AGENCY: Forest Service, USDA.

ACTION: Notice of intent to prepare an environmental impact statement.

SUMMARY: The USDA Forest Service, Bitterroot National Forest will prepare an environmental impact statement (EIS) for the proposed Gold Butterfly project under the authorities in the Healthy Forest Restoration Act (HFRA) as amended by the Agricultural Act of 2014. The Gold Butterfly EIS will analyze and disclose the effects of treatments proposed on about 10,495 acres of national forest land in the Sapphire Mountains between the confluence of Gold Creek and Burnt Fork of the Bitterroot River to the north and Saint Clair Creek to the south. The Gold Butterfly project area is bounded on the west by the National Forest boundary with private land and on the east by the Stoney Mountain Inventoried Roadless Area (IRA). The Gold Butterfly project area is located about 10 miles southeast of Stevensville and seven miles east of Corvallis, Montana, in Ravalli County.

DATES: Comments concerning the scope of the analysis must be received by July 10, 2017. The draft environmental impact statement is expected March 2018 and the final environmental impact statement is expected July 2018.

ADDRESSES: Send written comments to Tami Sabol, Stevensville District Ranger, 88 Main St., Stevensville, MT 59870. Comments may also be sent via email to comments-northern-bitterroot-stevensville@fs.fed.us or via facsimile to 406-777-7423.

FOR FURTHER INFORMATION CONTACT: Sara Grove, South Zone Interdisciplinary Team Leader, phone number 406-375-2608 or email: sgrove@fs.fed.us or Marilyn Wildey, Hydrology Technician, phone number 406-363-7101 or email: mwildey@fs.fed.us. Their mailing address is: 1801 North 1st Street, Hamilton, MT 59840-3114.

Individuals who use telecommunication devices for the deaf (TDD) may call the Federal Information Relay Service (FIRS) at 1-800-877-8339 between 8 a.m. and 8 p.m., Eastern Time, Monday through Friday.

SUPPLEMENTARY INFORMATION: The Stevensville District Ranger proposes forest management on approximately 10,495 acres in the Gold Butterfly project area. The project is in the Sapphire Mountains on the Bitterroot National Forest (T.6N.R.18W. sec. 1-12, 16-20, 29, 30; T.6N.R.19W. sec. 1, 2, 10-15, 22-27; T.7N.R18W. sec. 2-36,T.7; N.R.19W. sec. 1, 2, 11-14, 22-27, 34-36; T.8N.R.18W. sec. 20, 21, 28-34) about seven miles east of Corvallis, Montana in Ravalli County.

Purpose and Need for Action

Most of the project area considered for treatment is designated as part of the insect and disease treatment program (HFRA Title VI sec. 602). Forests in the project area are at moderate to high hazard for insects and diseases, such as western spruce budworm, Douglas-fir bark beetle, mountain pine beetle, and dwarf mistletoe. Current forest conditions provide opportunities to regenerate forest stands, modify forest structures to reduce insect and disease hazard, and research management strategies that perpetuate whitebark pine. In addition to improving forest resilience to disturbances, these treatments would provide a sustainable supply of timber and provide related employment opportunities.

Terrain and road development in parts of the project area have created areas that contribute sediment to adjacent streams. These road sections typically end at a trailhead. Moving the trailhead to locations further from the streams and converting the roads to walking trails would reduce sediment in the streams and improve bull trout habitat.

The purpose and need for the Gold Butterfly project is to: (1) Improve landscape resilience to disturbances (such as insects, diseases, and fire) by modifying forest structure and composition, and fuels; (2) provide timber products and related jobs; (3) reduce erosion sources in Willow Creek and Burnt Fork of the Bitterroot River watersheds to improve water quality and bull trout habitat; (4) restore or improve key habitat areas such as, meadows, aspen, and whitebark pine.

Proposed Action

Commercial timber harvest is proposed on about 7,711 acres, and non-commercial thinning on about 2,784 acres. In addition, most treatment units would be followed by some form of prescribed fire (pile burning, underburn). Approximately seven miles of permanent, national forest system road (NFSR) and 27 miles of temporary road will be needed to support timber haul from the project area. The new system roads would be closed and the temporary roads would be rehabilitated after harvest.

The Stoney Mountain IRA is adjacent to the project area. No road construction is proposed in the IRA, however, prescribed burning and some timber harvest may occur.

A plan amendment to the Bitterroot National Forest Plan may be required to provide a project-specific variance for four standards. The 2012 Planning Rule (36 CFR 219) requires notice of which substantive requirements of §§ 219.8 through 219.11 are likely to be related to the amendment. Suspension of the coarse woody debris amendment is likely related to the requirements for soils and soil productivity at § 219.8(a)(2)(ii). Suspension of the old growth standard is likely related to the requirement to maintain or restore key ecosystem characteristics a § 219.9(a)(2)(i). Suspension of the winter range thermal cover and elk habitat effectiveness standards are likely related to the consideration of habitat conditions for wildlife commonly used and enjoyed by the public at § 219.10(a)(5).

The Forest Service proposes the following actions in the Gold Butterfly project area: (1) Harvest, thin, and prescribe burn units with Douglas-fir beetle, mountain pine beetle, western spruce budworm, or dwarf mistletoe, (2) harvest, thin, and prescribe burn natural meadows that are being colonized by trees, (3) harvest or thin conifers from declining aspen clones, (4) harvest, thin, or prescribe burn areas to improve conditions for whitebark pine, (5) close Burnt Fork Rd. at the Gold Creek campground and move the Gold Creek trailhead to the Gold Creek campground, (6) close NFSR 969A at the junction with NFSR 969 (Willow Creek Rd.), move the trailhead to the junction, and develop trailhead facilities, (7) construct specified and temporary roads to support timber removal from the forest, (8) upgrade road conditions on NFSR 364 and 969 with the application of best management practices, (9) build a crossing (temporary/permanent) where NFSR 13131 crosses North Fork of Willow Creek, (10) decommission NFSR 13111 from the junction with NFSR 364 where the road encroaches on Butterfly Creek and construct an alternative route away from the stream, and (11) decommission or store upland roads in the Willow Creek watershed as decided in the Travel Plan, especially those roads that encroach on streams.

Responsible Official

Julie K. King, Bitterroot National Forest Supervisor, 1801 N. First, Hamilton, Montana 59840-3114 is the Forest Service official who will make the decision on the Gold Butterfly project.

Nature of Decision To Be Made

The Responsible Official will select the proposed action, an alternative to the proposed action (including the no action alternative), or modify the proposed action or alternatives to the proposed action. The decision may include an amendment to the Bitterroot National Forest Plan to provide a project-specific variance to four standards for coarse woody debris, winter range thermal cover, elk habitat effectiveness, and old growth.

Preliminary Issues

The number of crossings over streams and road segments directly adjacent to streams are preliminary issues the Forest Service identified in the project area. Timber haul on roads in these situations have the potential to increase the sediment load in the adjacent streams that may negatively affect sediment levels and bull trout habitat.

Scoping Process

This notice of intent initiates the scoping process, which guides the development of the environmental impact statement. Other opportunities for public comment will occur through the scoping process at public meetings and field trips that will be announced in local newspapers, radio stations, and social media. A comment period will also be available on the draft EIS. Scoping comments that are helpful to the project analysis focus on resource conditions or potential resource conflicts specific to the project area.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: April 25, 2017.
Jeanne M. Higgins,
Acting Associate Deputy Chief, National Forest System.

[FR Doc. 2017-11979 Filed 6-8-17; 8:45 am]

BILLING CODE 3411-15-P